DEPARTMENT OF ENERGY

Federal Energy Regulatory Commission

[Docket No. CP03-337-000]

Natural Gas Pipeline Company of America; Notice of Application

July 30, 2003.

Take notice that on July 18, 2003, Natural Gas Pipeline Company of America (Natural), 747 East 22nd Street, Lombard, Illinois 60148, filed in Docket No. CP03-337-000, pursuant to Section 7(b) of the Natural Gas Act (NGA), as amended, and Sections 157.7 and 157.18 of the Federal Energy Regulatory Commission's (Commission's) Regulations for permission and approval to abandon certain facilities, by sale to Panther Interstate Pipeline Energy, L.L.C. (Panther Interstate), a newly formed interstate pipeline subject to the jurisdiction of the Commission under the NGA, all as more fully set forth in the application which is on file with the Commission and open to public inspection. Panther Interstate is simultaneously filing a related application requesting, in Docket Nos. CP03-338-000, CP03-339-000, and CP03-340-000, authorization to acquire, operate and maintain the subject facilities as an interstate pipeline under applicable Commission rules. The Natural filing, as well as the Panther Interstate filings, are available for review on the Commission's Web site at http://www.ferc.gov using the “FERRIS” link. Enter the docket number excluding the last three digits in the docket number field to access the document. For assistance, contact FERC Online Support at FERCOnlineSupport@ferc.gov or toll-free at (866) 208-3676, or for TTY, contact (202) 502-8659.

On September 20, 2002, the Commission issued an order in Docket No. CP02-81-000 (September 20th Order) that found the subject facilities owned by Natural, to be abandoned by sale, as jurisdictional. Natural states that Panther Interstate intends to purchase these jurisdictional facilities, and additionally those facilities found to be non-jurisdictional in the September 20th Order. More specifically, the jurisdictional facilities to be abandoned in this Docket No. consist of:

• 22 miles of 16-inch diameter offshore and related onshore pipeline and appurtenances originating in the High Island (“HI”) Area Block 48, offshore Texas and terminating onshore near an interconnection with Natural's 30-inch Louisiana Mainline No. 1 in Jefferson County, Texas, a dual 8-inch meter and appurtenances located onshore at Natural's Booster Station No. 344 in Jefferson County, Texas (“BS 344”), a 12-inch subsea tap located in HI 11; and

• 3.12 miles of 20-inch onshore pipeline and appurtenances originating in Jefferson County, Texas near Natural's BS 344 and terminating near an interconnection with Natural's 30-inch Louisiana Mainline No. 2 in Jefferson County, Texas (“Sabine Pass Lateral”) and a dual 12-inch meter and appurtenances located at BS 344 (“Sabine Pass Facilities”).

The September 20th Order found the following facilities, that Panther Interstate will acquire from Natural, to be non-jurisdictional.

• 4.7 miles of 16-inch diameter HI 71A Lateral and appurtenances originating at the HI 71A Platform to and including the subsea tap assembly in HI 48.

• A forty (40) foot section of 12-inch pipe in HI-48.

• Two 12-inch taps in HI 48.

• An 8-inch tap in HI 71

• All of the HI 139A lateral Facilities were determined to be non-jurisdictional gathering facilities.

Natural states that Panther Interstate has agreed to purchase both the jurisdictional and non-jurisdictional facilities for $400,000. Natural further states that upon receipt of the requisite abandonment authority sought in the present application and the related application being filed simultaneously by Panther Interstate, Natural will abandon and Panther Interstate will acquire, operate, and maintain both the jurisdictional and non-jurisdictional facilities.

Any questions regarding the application should be directed to Bruce H. Newsome, Vice President, Natural Gas Pipeline Company of America, 747 East 22nd Street, Lombard, Illinois 60148-5072, (630) 691-3526.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper. See 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: August 19, 2003.

Magalie R. Salas,
Secretary.

[FR Doc. 03-19959 Filed 8-5-03; 8:45 am]

BILLING CODE 6717-01-P